DEPARTMENT OF HEALTH AND HUMAN SERVICES

Centers for Medicare & Medicaid Services

Privacy Act of 1974; Computer Matching Program (Match No. 2001-02)

AGENCY: Department of Health and Human Services (HHS), the Centers for Medicare and Medicaid Services (CMS), formerly the Health Care Financing Administration.

ACTION: Notice of Computer Matching Program.

SUMMARY: In accordance with the requirements of the Privacy Act of 1974, as amended, this notice announces a renewal and modification for a computer matching agreement that CMS plans to conduct with the Social Security Administration (SSA). We have provided background information about the proposed matching program in the Supplementary Information section below. Although the Privacy Act requires only that CMS provide an opportunity for interested persons to comment on the proposed matching program, CMS invites comments on all portions of this notice. See Effective Dates section below for comment period.

EFFECTIVE DATES: CMS filed a report of the computer matching program with the Chair of the House Committee on Government Reform and Oversight, the Chair of the Senate Committee on Governmental Affairs, and the Administrator, Office of Information and Regulatory Affairs, Office of Management and Budget (OMB) on October 16, 2001. We will not disclose any information under a matching agreement until 40 days after filing a report to OMB and Congress or 30 days after publication. We may defer implementation of this matching program if we receive comments that persuade us to defer implementation.

ADDRESSES: The public should address comments to: Director, Division of Data Liaison and Distribution (DDLD), CMS, Room N2-04-27, 7500 Security Boulevard, Baltimore, Maryland 21244-1850. Comments received will be available for review at this location, by appointment, during regular business hours, Monday through Friday from 9 a.m.-3 p.m., eastern daylight time.

FOR FURTHER INFORMATION CONTACT: Lori Anderson, Health Insurance Specialist, Division of National Systems, Financial Systems and Quality Group, Center for Medicaid and State Operations, S2-11-07, CMS, 7500 Security Boulevard, N2-04-06, Baltimore, Maryland 21244-1850. The telephone number is (410) 786-6190, or facsimile (410) 786-6730.

SUPPLEMENTARY INFORMATION:

I. Description of the Matching Program

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 100-508) further amended the Privacy Act regarding protections for such individuals. The Privacy Act, as amended, regulates the use of computer matching by Federal agencies when records in a system of records are matched with other Federal, state, or local government records. It requires Federal agencies involved in computer matching programs to:

1. Negotiate written agreements with the other agencies participating in matching programs;

2. Obtain the Data Integrity Board's approval of the match agreement;

3. Furnish detailed reports about matching programs to Congress and OMB;

4. Notify applicants and beneficiaries that the records are subject to matching; and

5. Verify match findings before reducing, suspending, terminating, or denying an individual's benefits or payments.

B. CMS Computer Matches Subject to the Privacy Act

CMS has taken action to ensure that all of the computer match programs that this agency participates in comply with the requirements of the Privacy Act of 1974, as amended.

Dated: October 12, 2001.
Thomas A. Scully,
Administrator, Centers for Medicare & Medicaid Services.

Computer Match No. 2001-02

Name:

Disclosure of Skilled Nursing Facility Admission Information.

Security Classification:

Level Three Privacy Act Sensitive.

Participating Agencies:

Centers for Medicare and Medicaid Services; and the Social Security Administration.

Authority for Conducting Matching Program:

Authority for matching agreement is given under sections 1611(e)(1)(A) and (B) and 1631(f) of the Social Security Act (the Act) (42 U.S.C.) 1382(e)(1)(A) and (B).

Purpose(s) of the Matching Program:

The primary purpose for the renewal and modification of this matching program is to identify Social Security recipients who did not report their admission to certain skilled nursing facilities as required under applicable provisions of the Act. Such admissions would subject the amount of Supplemental Security Income (SSI) that the individual could receive for any month throughout which the individual is in such a facility to a reduced benefit rate.

In addition, under the Special Veterans' Benefits (SVB) Program, certain World War II veterans may be entitled to receive a special benefit for each month they subsequently reside outside of the United States (U.S.) after April 2000. The match will be used to identify those beneficiaries who are no longer residing outside the U.S.

Categories of Records and Individuals Covered by the Match:

SSA will furnish CMS with an electronic file on a monthly basis, extracted from SSA's “Supplemental Security Income Record,” SSA/OSR 60-0103, containing identifying information on applicants for, and recipients of, SSI benefits. CMS will match the SSA file against its “Long Term Care/Minimum Data Set System,” (No. 09-70-1517) system of records and disclose information on skilled nursing facilities admission dates. CMS's data will help enforce the provision of the Act which limits the amount of SSI individuals may receive in certain cases for any month throughout which an individual or his eligible spouse is in a hospital, extended care facility, nursing home, or intermediate care facility, and is receiving Medicare payments. The information provided by this match will help SSA determine if the individual has returned to the U.S., since an individual is entitled to receive SVB only when he/she resides outside the U.S.

Inclusive Dates of the Match:

The Matching Program shall become effective no sooner than 40 days after the report of the matching program is sent to OMB and Congress, or 30 days after publication in the Federal Register, whichever is later. The matching program will continue for 18 months from the effective date and may be extended for an additional 12 months thereafter, if certain conditions are met.

[FR Doc. 01-26489 Filed 10-19-01; 8:45 am]

BILLING CODE 4120-03-P